NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 20, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant—Permit Application No. 2011-017. Mahlon C. Kennicutt, II, Department of Oceanography, Rm. 608 Eller Oceanography and Meteorology Building, 3146 TAMU, College Station, TX 778843-3146.

Activity for Which Permit Is Requested

Take, Enter Antarctic Specially Protected Areas, and Import into the USA. The applicant plans to center Cape Royds (ASPA 157), Bratina Island, Arrival Heights (ASPA 122) and Hut Point (ASPA 158) as part of an environmental study. Cape Royds and Bratina Island will be samples as two reference controls sites for their study of the temporal and spatial scales of various types of disturbances in and around McMurdo Station, Antarctica. The sampling locations at Cape Royds will be situated to avoid disturbance to biota in the area. The other sites, Arrival Heights and Hut Point, have been sampled in past field seasons and are slated to be sampled as part of the ongoing environmental monitoring program.

Location

Cape Royds (ASPA 157), Bratina Island, Arrival Heights (ASPA 122) and Hut Point (ASPA 158).

Dates

November 12, 2010 to December 31, 2010.

Nadene G. Kennedy,
Permit Officer, Office of Polar Programs.

[FR Doc. 2010-23333 Filed 9-17-10; 8:45 am]

BILLING CODE 7555-01-P